DEPARTMENT OF JUSTICE

Office of Justice Programs

[OJP(BJS)-1286e]

National Incident Based Reporting System (NIBRS) Implementation Program

AGENCY: Bureau of Justice Statistics, Office of Justice Programs, Justice.

ACTION: Extension of application deadline.

SUMMARY: This notice is to announce the extension of the application deadline for the Bureau of Justice Statistics' solicitation to make awards to States to provide funding to jurisdictions for implementing the National Incident Based Reporting System (NIBRS).

DATES: Proposals must be received by 5 p.m. ET on Thursday, August 31, 2000.

ADDRESSES: Proposals should be mailed to: Application Coordinator, Bureau of Justice Statistics, Room 2406, 810 7th Street, NW., Washington, DC 20531, (202) 616-3497 [This is not a toll-free number].

FOR FURTHER INFORMATION CONTACT: Charles R. Kindermann, Ph.D., Senior Statistician, Bureau of Justice Statistics, (202) 616-3489, or Carol G. Kaplan, Chief, Criminal History Improvement Programs, (202) 307-0759 [This is not a toll-free number].

SUPPLEMENTARY INFORMATION:

Extended Deadline for Proposals

BJS is extending the proposal submission date for the NIBRS solicitation which was published in the Federal Register on June 19, 2000 at 65 FR 38001. The prior due date was July 31, 2000. The new submission deadline is Thursday, August 31, 2000. Please refer to the original notice of solicitation (65 FR 38001) for information about the eligibility requirements, scope of work, application process and awards procedures.

Authority

The Crime Identification Technology Act (CITA) provides funding to states (in conjunction with units of Local government) and tribes that want to participate in the FBI's new approach to uniform crime reporting, the National Incident-Based Reporting System (NIBRS). The awards made pursuant to this solicitation will be funded by the Bureau of Justice Statistics consistent with the provisions of 42 U.S.C. 3732 and the Crime Identification Technology Act of 1998 (CITA), 42 U.S.C. 14601.

Lawrence Greenfeld,
Acting Director, Bureau of Justice Statistics.

[FR Doc. 00-19224 Filed 7-27-00; 8:45 am]

BILLING CODE 4410-18-P